DEPARTMENT OF AGRICULTURE

Forest Service

Plumas National Forest; California; Moonlight and Wheeler Fires Recovery and Restoration Project

AGENCY: Forest Service, USDA.

ACTION: Revised notice of intent to prepare an Environmental Impact Statement (EIS).

Introduction: A notice of intent to prepare an EIS for the Moonlight Fire Recovery and Restoration Project was published in the Federal Register on Monday, January 7, 2008 (Vol. 73, No.4, pp. 1201-1202). After scoping the Moonlight Fire and Wheeler Fire Recovery and Restoration Projects separately in December 2007, the Forest Service, Plumas National Forest, has merged the two projects together. In December 2007, the Mt. Hough Ranger District of the Plumas National Forest began the process to determine the scope (the depth and breadth) of the environmental analysis. At that time, it was anticipated that the Moonlight Fire Recovery and Restoration Project analysis would be documented in an EIS and the Wheeler Fire Recovery and Restoration Project analysis would be documented in an Environmental Assessment. From comments received it was determined to document the analysis for both projects in one EIS. The new project name is Moonlight and Wheeler Fires Recovery and Restoration Project.

SUMMARY: The USDA, Forest Service, Plumas National Forest will prepare an EIS on a proposal to harvest dead trees on approximately 15,568 acres in the Moonlight and Antelope Complex fires areas. The Moonlight and Antelope Complex fires burned about 88,000 acres between July and September 2007 on the Plumas National Forest.

DATES: The draft EIS is expected in June 2008 and the final EIS is expected in September 2008.

ADDRESSES: Send written comments to Rich Bednarski, Interdisciplinary Team Leader, Mt. Hough Ranger District, 39696 Highway 70, Quincy, CA 95971. Comments may be: (1) Mailed; (2) hand delivered between the hours of 8 a.m. to 4:30 p.m. weekdays Pacific Time; (3) faxed to (530) 283-1821; or (4) electronically mailed to: comments-pacificsouthwest-plumas-mthough@fs.fed.us. Please indicate the name “Moonlight and Wheeler Fires Recovery and Restoration Project” on the subject line of your email. Comments submitted electronically must be in Rich Text Format (.rtf), plain text format (.txt), or Word format (.doc).

FOR FURTHER INFORMATION CONTACT: Rich Bednarski, Interdisciplinary Team Leader, Mt. Hough Ranger District, 39696 Highway 70, Quincy, CA 95971. Telephone: (530) 283-7641 or electronic address: rbednarski@fs.fed.us.

SUPPLEMENTARY INFORMATION: The proposed action is designed to meet the standards and guidelines for land management activities in the Plumas National Forest Land and Resource Management Plan (1988), as amended by the Herger-Feinstein Quincy Library Group (HFQLG) Final Supplemental Environmental Impact Statement (FSEIS) and Record of Decision (ROD) (1999, 2003), and as amended by the Sierra Nevada Forest Plan Amendment FSEIS and ROD (2004).

The proposed project is located in Plumas County, California, within the Mt. Hough Ranger District of the Plumas National Forest. The project is located in all or portions of: sections 13, 23-27, 34-35, T28N, R1OE; sections 13-14, 17-19, 23-24, 29-34, T28N, R11E; sections 19-20, 29-32, T28N, R12E; sections 1-2, 13-14, 23-25, T27N, R1OE; sections 2-11, 13-15, 17, 19-22, 25, 35-36, T27N, R11E; sections 5, 8, 17-20, 29-32, T27N, R12E; sections 1-5, 9-12, 14-16, 21-23, and 26-27, T26N, R12E; sections 23-29 and 31-36, T27N, R12E; and sections 19, 20, and 30, T27N, R13E; Mount Diablo Meridian.

Purpose and Need for Action

The purpose of the project would be to provide for short-term local economic benefit by creating jobs from the sale of dead merchantable trees, as well as contribute to local and regional areas with net revenues and receipts. The project would promote long term economic recovery through restoration by re-establishing forested conditions. The wood quality, volume, and value of dead trees deteriorate rapidly. The value of trees would cover the cost of their removal and possibly other activities associated with the project.

As a result of the Moonlight and Antelope Complex fires, thousands of acres burned with high vegetation burn severity resulting in deforested condition. As a result, shrub species will dominate these areas for decades and experience a delay in returning to a forested condition. The early establishment of conifers through reforestation will expedite forest regeneration.

Proposed Action

The proposed action would harvest dead conifer trees on approximately 15,568 acres using the following methods: ground based, skyline, and helicopter. Trees greater than 14 inches diameter at breast height (dbh) would be whole tree harvested on the ground-based areas.

Trees less than 14 inches dbh would be removed as biomass material on the ground-based areas. Approximately 7,517 acres would have trees less than 14 inches dbh removed as biomass material and approximately 122 acres would be removed from site preparation. Ground-based equipment would be restricted to slopes less than 35 percent, except on decomposed granitic soils where equipment would be restricted to slopes less than 25 percent. On the skyline and helicopter areas, trees greater than 16 inches dbh would be harvested. Limbs and tops in the skyline and helicopter areas would be lopped and scattered to a depth less than 18 inches in height. Skyline yarding would require one end suspension, with full suspension over intermittent or perennial streams. Dead conifers would be harvested from Riparian Habitat Conservation Areas. Equipment restriction zone widths within Riparian Habitat Conservation Areas would be established based on the stream type and steepness of the slope adjacent to the streams. Snags would be retained in snag retention areas, which are approximately ten acres in size, on approximately ten percent of the project area. Harvest activities would not occur within the snag retention areas except for operability (safety) reasons. Approximately 33 miles of temporary roads would be constructed.

Approximately 30 acres (fourteen landings) of helicopter landings would be constructed. Excess fuels on landings would be piled, a fireline constructed around the piles, and the piles burned. Following completion of the project, the temporary roads and landings would be subsoiled, reforested, and closed. Approximately 17,474 acres would be reforested with conifer seedlings in widely spaced clusters to emulate a naturally established forest. The areas would be reforested with a mixture of native species.

The Moonlight and Antelope Complex fires impacted twenty-five California spotted owl Protected Activity Centers (PACs). According to the Sierra Nevada Forest Plan Amendment FSEIS and ROD (2004), page 37, after a stand-replacing event, the habitat conditions are evaluated within a 1.5 mile radius around the activity center to identify opportunities for re-mapping the PAC. If there is insufficient suitable habitat for designating a PAC within the 1.5 mile radius, the PAC may be removed from the network.

Possible Alternatives

In addition to the proposed action, a no action alternative would be analyzed. Additional alternatives may be developed and analyzed throughout the environmental analysis.

Lead and Cooperating Agencies

The USDA, Forest Service is the lead agency for this proposal.

Responsible Official

Alice B. Carlton, Plumas National Forest Supervisor, PO Box 11500, Quincy, CA 95971.

Nature of Decision To Be Made

The decision to be made is whether to: (1) Implement the proposed action; (2) meet the purpose and need for action through some other combination of activities; or, (3) take no action at this time.

Scoping Process

Scoping is conducted to determine the significant issues that will be addressed during the environmental analysis. Comments that were received for the Moonlight Fire Recovery and Restoration Project and the Wheeler Fire Recovery and Restoration Project will be considered in the combined analysis. Additional comments on the Moonlight and Wheeler Fires Recovery and Restoration Project will also be considered. Scoping comments will be most helpful if received by May 23, 2008.

Permits or Licenses Required

An Air Pollution Permit and a Smoke Management Plan are required by local agencies.

Early Notice of Importance of Public Participation in Subsequent Environmental Review

A draft EIS will be prepared for comment. The comment period on the draft EIS will be 45 days from the date the Environmental Protection Agency publishes the notice of availability in the Federal Register.

The Forest Service believes, at this early stage, it is important to give reviewers notice of several court rulings related to public participation in the environmental review process. First, reviewers of draft EISs must structure their participation in the environmental review of the proposal so that it is meaningful and alerts an agency to the reviewer's position and contentions. Vermont Yankee Nuclear Power Corp. v. NRDC, 435 U.S. 519, 553 (1978). Also, environmental objections that could be raised at the draft EIS stage, but that are not raised until after completion of the final EIS, may be waived or dismissed by the courts. City of Rangoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final EIS.

To assist the Forest Service in identifying and considering issues and concerns on the proposed action, comments on the draft EIS should be as specific as possible. It is also helpful if comments refer to specific pages or chapters of the draft statement. Comments may also address the adequacy of the draft EIS or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

Authority: 40 CFR 1501.7 and 1508.22; Forest Service Handbook 1909,15, Section 21.

Dated: May 13, 2008.
Mark Beaulieu,
Acting Forest Supervisor.

[FR Doc. E8-11222 Filed 5-21-08; 8:45 am]

BILLING CODE 3410-11-M